LIBRARY OF CONGRESS

Copyright Office

37 CFR Part 201

[Docket No. RM 2000-4C]

Public Performance of Sound Recordings: Definition of a Service

AGENCY: Copyright Office, Library of Congress.

ACTION: Petition for rulemaking, denial; correction.

SUMMARY: This document corrects a footnote to a proposed rule document published in the Federal Register of December 11, 2000, regarding the public performance of sound recordings: definition of a service.

FOR FURTHER INFORMATION CONTACT: David O. Carson, General Counsel, or Tanya M. Sandros, Senior Attorney, Copyright Arbitration Royalty Panel, P.O. Box 70977, Southwest Station, Washington, D.C. 20024. Telephone: (202) 707-8380. Telefax: (202) 252-3423.

Correction

In proposed rule document 00-31458 beginning on page 77330 in the issue of December 11, 2000, make the following correction, in the Supplementary Information section:

On page 77332, in the third column, in footnote 1, the last sentence which reads, “From these descriptions, there is considerable doubt whether either offering would qualify as an ‘interactive service.’ ” is corrected to read as follows: “From these descriptions, there is considerable doubt whether either offering would qualify as a noninteractive service.”

Dated: December 12, 2000.
David O. Carson,
General Counsel.

[FR Doc. 00-32038 Filed 12-14-00; 8:45 am]

BILLING CODE 1410-31-P